DEPARTMENT OF AGRICULTURE

Agricultural Research Service

Notice of Federal Invention Available for Licensing and Intent To Grant Exclusive License

AGENCY: Agricultural Research Service, USDA.

ACTION: Notice of Availability and Intent.

SUMMARY: Notice is hereby given that a Federally owned invention, U.S. Patent No. Re. 35,460, a reissue of U.S. Patent No. 5,233,090, entitled “Method for Fiber Loading a Chemical Compound” is available for licensing and that the U.S. Department of Agriculture, Forest Service, intends to grant to Voith Sulzer Paper Technology North America Inc., of Appleton, Wisconsin, an exclusive license for U.S. Patent No. Re. 35,460.

DATES: Comments must be received on or before June 12, 2000.

ADDRESSES: Send comments to: USDA Forest Service, One Gifford Pinchot Drive, Madison, Wisconsin 53705-2398.

FOR FURTHER INFORMATION CONTACT: Janet I. Stockhausen of the USDA Forest Service at the Madison address given above; telephone: 608-231-9502.

SUPPLEMENTARY INFORMATION: The Federal Government's patent rights to this invention are assigned to the United States of America, as represented by the Secretary of Agriculture. It is in the public interest to so license this invention as Voith Sulzer Paper Technology North America Inc. has submitted a complete and sufficient application for a license. The prospective exclusive license will be royalty-bearing and will comply with the terms and conditions of 35 U.S.C. 209 and 37 CFR 404.7. The prospective exclusive license may be granted unless, within ninety (90) days from the date of this published Notice, the Forest Service receives written evidence and argument which establishes that the grant of the license would not be consistent with the requirements of 35 U.S.C. 209 and 37 CFR 404.7.

Richard M. Parry, Jr.,
Assistant Administrator.

[FR Doc. 00-6012 Filed 3-10-00; 8:45 am]

BILLING CODE 3410-03-P